DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked pursuant to the Foreign Narcotics Kingpin Designation Act (Kingpin Act) and the Cuban Assets Control Regulations. Additionally, OFAC is publishing an update to the identifying information of a person currently included in the list of Specially Designated Nationals and Blocked Persons (SDN List).

DATES: OFAC's actions described in this notice were applicable on August 22, 2017.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's Web site (http://www.treasury.gov/ofac).

Notice of OFAC Actions

On August 22, 2017, OFAC removed from the SDN List the persons listed below, whose property and interests in property were blocked pursuant to the Kingpin Act.

Individuals

1. ZABANEH, John (a.k.a. ZABANEH, John Angel), Big Creek, Belize; 3 Magoon St., Dangriga, Belize; Long Coco Caye, Belize; Valley Rd., Stann Creek, Belize; 135 Commerce St., Stann Creek, Belize; Dangriga Town, Stann Creek, Belize; N River Side Docter, Dangriga, Belize; DOB 07 Oct 1954; alt. DOB 02 Oct 1954; POB Belize (individual) [SDNTK] (Linked To: MAYAN KING LIMITED; Linked To: MID-SOUTH INVESTMENTS LIMITED; Linked To: CROWN PARADISE ENTERPRISES LTD.; Linked To: BELIZE CHEMICALS LIMITED).

2. ZABANEH, Dion (a.k.a. ZABANEH, Dion Christopher), 68 Bela Vista, Belize City, Belize; 3 Eyre St., Belize City, Belize; 5468 Seashore Dr., Belize City, Belize; DOB 12 May 1974; POB Belize (individual) [SDNTK].

3. CIFUENTES VILLA, Hector Mario, c/o C.I. OKCOFFEE COLOMBIA S.A., Bogota, Colombia; c/o CUBI CAFE CLICK CUBE MEXICO, S.A. DE C.V., Mexico City, Distrito Federal, Mexico; c/o INVERSIONES CIFUENTES Y CIA. S. EN C., Medellin, Colombia; c/o UNION DE CONSTRUCTORES CONUSA S.A., Bogota, Colombia; c/o C.I. GLOBAL INVESTMENTS S.A., Medellin, Colombia; c/o ROBLE DE MINAS S.A., Medellin, Colombia; c/o GENETICA DEL SUR S.A., Lavalleja, Uruguay; DOB 28 Nov 1964; POB Medellin, Colombia; Cedula No. 71653530 (Colombia); Passport AG048125 (Colombia) (individual) [SDNTK].

4. AHMADY MOHAMMAD DIN, Atiqullah (a.k.a. AHMADY, Atiqullah; a.k.a. ATIQULLAH, Haji Ahmedy; a.k.a. “HASHAM, Haji”), Manzil Hati Atiq, Nahya-6, Shah-e-naw, Behind Sura Jama, Kandahar, Afghanistan; Abdul Rahman Badri Building, Flat 401, Naif Road, Deira, Dubai, United Arab Emirates; DOB 01 Jan 1965; citizen Afghanistan; Passport OR371307 (Afghanistan); alt. Passport TR027672 (Afghanistan); alt. Passport OR1138550 (Afghanistan); National ID No. 87859 (Afghanistan); alt. National ID No. 224799 (Afghanistan); alt. National ID No. 602121 (Afghanistan) (individual) [SDNTK] (Linked To: ETIHAD GROUP OF AFGHANISTAN; Linked To: ETEHAD BROTHERS; Linked To: ETEHAD BEVERAGE CO LTD; Linked To: ATIQULLAH GENERAL TRADING CO LLC).

5. AHMADY MOHAMMAD DIN, Sadiq (a.k.a. SEDIQ, Haji Mohammad), 6 Zone, Kandahar, Afghanistan; National ID No. 87883 (Afghanistan); alt. National ID No. 761154 (Afghanistan) (individual) [SDNTK] (Linked To: ETEHAD BROTHERS).

6. ARISTIZABAL GIRALDO, Tulio Adan, c/o DISTRIBUIDORA BABY PANALES, Cali, Colombia; Calle 14 No. 9-53, Cali, Colombia; DOB 06 Mar 1966; alt. DOB 03 Jun 1966; Cedula No. 79395721 (Colombia) (individual) [SDNTK].

7. BARCO MEJIA, Jesus Rodolfo; DOB 19 Mar 1967; POB Santuario, Antioquia, Colombia; citizen Colombia; Cedula No. 70692776 (Colombia) (individual) [SDNTK] (Linked To: GRUPO EMPRESARIAL GHEMA S.A.S.).

8. BARCO MEJIA, Jose Albeiro; DOB 23 May 1965; POB Santuario, Antioquia, Colombia; citizen Colombia; Cedula No. 70691995 (Colombia) (individual) [SDNTK] (Linked To: INVERSIONES MEYBAR S.A.S.; Linked To: GRUPO EMPRESARIAL ENKOR PROFESIONAL S.A.S.).

9. BARCO MEJIA, Jose Guillermo; DOB 03 Aug 1976; POB Santuario, Antioquia, Colombia; citizen Colombia; Cedula No. 94486900 (Colombia) (individual) [SDNTK] (Linked To: GRUPO EMPRESARIAL ENKOR PROFESIONAL S.A.S.; Linked To: GRUPO EMPRESARIAL GHEMA S.A.S.; Linked To: ALMACEN GUIBAR; Linked To: E-PROFESIONAL).

Entities

1. BELIZE CHEMICALS LIMITED (a.k.a. BELIZE CHEMICALS; a.k.a. BELIZE CHEMICALS LTD.), 7292 George Price Blvd., P.O. Box 657, Belmopan, Belize; 10/12 Halfmoon Avenue, Belmopan City, Belize; Tax ID No. GST-SIG 000465 (Belize) [SDNTK].

2. CROWN PARADISE ENTERPRISES LTD. (a.k.a. CROWN PARADISE MARINA), 671 Ecumenical Drive, P.O. Box 64, Dangriga Town, Belize [SDNTK].

3. MAYAN KING LIMITED (a.k.a. MAYAN KING LIMITED EXT.; a.k.a. MAYAN KING LTD.), Dangriga, Stann Creek District, Belize; 21 Mls South Stann Creek Road, Stann Creek District, P.O. Box 64, Dangriga, Belize; P.O. Box 64, Dangriga Town, Stann Creek, Belize; Tax ID No. GST-DGA 015476 (Belize) [SDNTK].

4. MID-SOUTH INVESTMENTS LIMITED (a.k.a. MID-SOUTH INVESTMENT; a.k.a. MIDSOUTH INVESTMENT LTD; a.k.a. MIDSOUTH INVESTMENTS LTD.), 135 Commerce Street, Dangriga, Stann Creek, Belize; 6 Arandas Crescent, Dangriga Town, Belize; P.O. Box 64, Dangriga, Stann Creek, Belize; 671 Ecumenical Dr, DAN, Belize [SDNTK].

5. GENETICA DEL SUR S.A., Padron 15001 S. Judicial 9 y 10 Seccion Catastral—Paraje Retamosa, Lavalleja, Uruguay; Cerrito 532 Of. 501, Montevideo, Uruguay; RUT # 215.950.390.012 (Uruguay) [SDNTK].

6. ATIQULLAH GENERAL TRADING CO LLC (a.k.a. ATIQ ALLAH GENERAL TRADING LLC), Flat No. 301, Abdul Rahim Badri Building, PO Box 42351, Naif Road, Deira, Dubai, United Arab Emirates; Trade License No. 525843 (United Arab Emirates) [SDNTK].

7. ETEHAD BEVERAGE CO LTD (a.k.a. ETEHAD BEVERAGES INDUSTRY), 6 Srai Tara, First Floor, Chaharsu, Kandahar, Afghanistan; This designation refers to the entity in Afghanistan and does not refer to the airline of a similar name. [SDNTK].

8. ETEHAD BROTHERS (a.k.a. ETEHAD BROTHERS MONEY SERVICES; a.k.a. ETEHAT BROTHERS LTD.; a.k.a. ETIHAD MONEY EXCHANGE), Eid Gah Street, Ahmad Shahi Market Charachi, Captain Madad, District 1, Kandahar, Afghanistan; Sarafi Bazaar, Shop #70, Kabul, Afghanistan; Business Registration Document # 1000833242; This designation refers to the entity in Afghanistan and does not refer to the airline of a similar name. [SDNTK].

9. ETIHAD GROUP OF AFGHANISTAN (a.k.a. ETEHAD AFGAN GROUP), 6 Srai Tara Singh, First Floor, Chaharsu, Kandahar, Afghanistan; This designation refers to the entity in Afghanistan and does not refer to the airline of a similar name. [SDNTK].

10. GRUPO EMPRESARIAL GHEMA S.A.S. (a.k.a. GHEMA), Carrera 80 No. 49A-118, Medellin, Colombia; Calle 10 No. 21-08, Ofc. 405, Bogota, Colombia; NIT # 900441675-8 (Colombia) [SDNTK].

11. VARIEDADES JOSE ALBEIRO BARCO M., Calle 48 53 62 Bod. 1202, Medellin, Colombia; Matricula Mercantil No 30517002 (Medellin) [SDNTK].

12. ALMACEN GUIBAR, Cali, Colombia; Matricula Mercantil No 441336 (Cali) [SDNTK].

13. E-PROFESIONAL, Calle 6 50-166, Medellin, Colombia; Matricula Mercantil No 42525602 (Medellin) [SDNTK].

14. GRUPO EMPRESARIAL ENKOR PROFESIONAL S.A.S. (a.k.a. ENKOR PROFESIONAL), Calle 6 No. 50-154, Sector Coltabaco, Medellin, Colombia; Carrera 80 No. 49A-118, Medellin, Colombia; NIT # 900440725-3 (Colombia) [SDNTK].

15. DISTRIBUIDORA BABY PANALES, Calle 14 No. 9-45, Cali, Colombia; Calle 14 No. 9-53, Cali, Colombia; Matricula Mercantil No 569739-2 (Colombia) [SDNTK].

On August 22, 2017, OFAC removed from the SDN List the entity listed below, whose property and interests in property were blocked pursuant to the Cuban Assets Control Regulations.

1. TOUR & MARKETING INTERNATIONAL LTD. (a.k.a. GO CUBA PLUS; a.k.a. T&M INTERNATIONAL LTD.; a.k.a. TOUR AND MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA].

Additionally, on August 22, 2017, OFAC updated the SDN List for the person listed below, whose property and interests in property continue to be blocked pursuant to the Kingpin Act. The individual's listing was updated from:

1. BRICENO SUAREZ, Jorge (a.k.a. BRICENO SUAREZ, Jorge Enrique; a.k.a. SUAREZ ROJAS, Victor Julio; a.k.a. “MONO JOJOY”; a.k.a. “OSCAR RIANO”; a.k.a. “SUAREZ, Luis”); DOB Jan 1953; alt. DOB 01 Feb 1949; alt. DOB 02 Jan 1951; alt. DOB 05 Feb 1953; POB Santa Marta, Magdalena, Colombia; alt. POB Cabrera, Cundinamarca, Colombia; Cedula No. 12536519 (Colombia); alt. Cedula No. 19208210 (Colombia); alt. Cedula No. 17708695 (Colombia) (individual) [SDNTK].

-to-

SUAREZ ROJAS, Victor Julio (a.k.a. “MONO JOJOY”; a.k.a. “OSCAR RIANO”; a.k.a. “SUAREZ, Luis”); DOB 01 Feb 1949; alt. DOB 02 Jan 1951; alt. DOB 05 Feb 1953; POB Cabrera, Cundinamarca, Colombia; Cedula No. 19208210 (Colombia); alt. Cedula No. 17708695 (Colombia) (individual) [SDNTK].

Dated: August 22, 2017.
Gregory T. Gatjanis,
Associate Director, Office of Global Targeting, Office of Foreign Assets Control.

[FR Doc. 2017-18289 Filed 8-28-17; 8:45 am]

BILLING CODE 4810-AL-P